DEPARTMENT OF COMMERCE

Foreign-Trade Zones Board

[S-205-2024]

Foreign-Trade Zone 220; Application for Subzone; Wurth Electronics Midcom, Inc.; Watertown, South Dakota

An application has been submitted to the Foreign-Trade Zones (FTZ) Board by the Sioux Falls Development Foundation, grantee of FTZ 220, requesting subzone status for the facility of Wurth Electronics Midcom, Inc., located in Watertown, South Dakota. The application was submitted pursuant to the provisions of the Foreign-Trade Zones Act, as amended (19 U.S.C. 81a-81u), and the regulations of the FTZ Board (15 CFR part 400). It was formally docketed on November 20, 2024.

The proposed subzone (8.03 acres) is located at 121 Airport Drive, Watertown, South Dakota. No authorization for production activity has been requested at this time. The proposed subzone would be subject to the existing activation limit of FTZ 220.

In accordance with the FTZ Board's regulations, Camille Evans of the FTZ Staff is designated examiner to review the application and make recommendations to the Executive Secretary.

Public comment is invited from interested parties. Submissions shall be addressed to the FTZ Board's Executive Secretary and sent to: ftz@trade.gov. The closing period for their receipt is January 6, 2025. Rebuttal comments in response to material submitted during the foregoing period may be submitted through January 21, 2025.

A copy of the application will be available for public inspection in the “Online FTZ Information Section” section of the FTZ Board's website, which is accessible via www.trade.gov/ftz.

For further information, contact Camille Evans at Camille.Evans@trade.gov.

Dated: November 20, 2024.
Elizabeth Whiteman,
Executive Secretary.

[FR Doc. 2024-27581 Filed 11-22-24; 8:45 am]

BILLING CODE 3510-DS-P